DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of June 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-57,077; Radicispandex Corp., Fall River, MA

TA-W-57,141; Stanbury Uniforms, Inc., Waxahachie, TX

TA-W-57,253; Intermark Fabric Corp., including leased workers of Placement Pros and Staffing Consultants, Plainfield, CT

TA-W-57,253; Vision Knits, Inc., Albemarle, NC

TA—W-57,025; AGC Automotive, TN, Inc., Mt. Pleasant, TN

The investigation revealed that criteria (a)(2)(A)(I.B.)(Sales or production, or both, did not decline) and (a) (2) (B) (II.B) (No shift in production to a foreign country) have not been met.

TA-W-57,108; Parker Hannifin Corp., Minneapolis, MN

TA-W-57,174; Microsemi Corp., Colorado Div., Broomfield, CO

TA-W-57,189; Elliott Company, Jeannette, PA

TA-W-57,287A; Stora Enso North America, Biron Mill, Wisconsin Rapids, WI

The investigation revealed that criterion (a)(2)(A)(I.A) and (a)(2)(B)(II.A) (no employment decline) has not been met.

TA-W-57,138; New Hope Weavers Ltd, Lansdale, PA

TA-W-57,237; Tingstol Company, on-site workers employed at Honeywell, Inc., Golden Valley, MN

TA-W-57,196; K & T Jewelry and Accessories, Inc., Providence, RI

The workers firm does not produce an article as required for certification under Section 222 of the Trade Act of 1974.

TA-W-57,320; Sabre, Inc., Travel Network North America Div., Southlake, TX

TA-W-57,165; Panasonic Mobile Communication Development, a div. of Panasonic Mobile Communications, Suwanee, GA

TA-W-57,149; MCI, Service Deliver Div., a subsidiary of MCI, Inc., Weldon Springs, MO

TA-W-57,157; Ted Thorsen, LLC, Wilkes-Barre, PA

TA-W-57,128; Northwest Airlines, Inc., Technical Operations—MSP, Bloomington, MN

TA-W-57,118; Lucerne Textiles, Inc., New York, NY

TA-W-57,130; Barrow Industries, Inc., including on-site workers employed at Canton Samples, Inc., Norwood, MA

TA-W-57,245; Delta Air Lines, Technical Operations, Atlanta, GA

TA-W-57,300; Aegis Communications Group, Irving, TX

The investigation revealed that criterion (a)(2)(A) (I.C) (Increased imports and (a)(2)(B) (II.C) (has shifted production to a foreign country) have not been met.

TA-W-56,898; **Eastman Chemical Company, Arkansas Operations Div., Batesville, AR

Affirmative Determinations for Worker Adjustment Assistance

The following certifications have been issued; the date following the company name and location of each determination references the impact date for all workers of such determination.

The following certifications have been issued. The requirements of (a) (2) (A) (increased imports) of Section 222 have been met.

TA-W-57,124; Jeanerette Shipping Co., Inc., a div. of Jeanerette Sugar Company, Inc., Jeanerette, LA: May 5, 2004.

TA-W-57,249; Lamplight Farms, Inc., including on-site leased workers of PA Staffing, Inc., QPS Staffing Services, Inc., Menomonee Falls, WI: May 24, 2004.

TA-W-57,195; True Manufacturing Co., a div. of The True Value Co., Paint Brush Manufacturing Div., Cary, IL: May 9, 2004.

TA-W-57,167; DB Roberts Company, Workers at Sanmina-SCI, Westbrook, ME: May 13, 2004.

TA-W-57,126; Tekmax, Inc., a subsidiary of Mitek Industries, Inc., Tangent, OR: April 28, 2004.

TA-W-57,116; Rockville Fabrics Corp., Active Quilting Div., Plains, PA: May 2, 2004.

TA-57,087; Strandflex, div. of Maryland Specialty Wire, Oriskany, NY: April 22, 2004.

TA-W-57,274; Laidlaw Corp., Monticello, WI: May 27, 2004.

TA-W-57,159; Electro-Mel Industries, Inc., Hazelhurst, WI: May 4, 2004.

TA-W-57,127; J.T. Shannon Lumber Company, including on-site leased workers of All Seasons Temporaries, Pennsylvania Div., Tidioute, PA: April 22, 2004.

TA-W-57,112; Broyhill Furniture Industries, Inc., Broyhill Corp. Office, Lenoir, NC: April 18, 2004.

TA-W-57,096; GE Infrastructure, Sensing Div., Edison, NJ: May 2, 2004.

TA-W-57,049; Acuity Lighting Group, a subsidiary of Acuity Brands, Inc., Conyers, GA: April 21, 2004.

TA-W-57,041; Louisiana-Pacific Corp., Hayden Lake, ID: April 19, 2004

TA-W-57,008; Caldwell VSR, Inc., Weslaco, TX: April 19, 2004.

TA-W-56,630; Sherwood Harsco Gasserv, a subsidiary of- Harsco Corp., Washington, PA: February 22, 2004.

TA-W-57,177; Broyhill Furniture Industries, Inc., Occasional #1 Plant, Lenoir, NC, A; Broyhill Harper Furniture, Lenoir, NC, B; Lenoir Chair #1 Plant, Lenoir, NC, C; Broyhill Marion Plant, Marion, NC, D; Broyhill Particleboard Plant, Lenoir, NC, E; Central Lumber Yard, Lenoir, NC, F; Broyhill Central Warehouse, Lenoir, NC and G; Broyhill Security, Lenoir, NC: April 10, 2005.

TA-W-57,155; Thomson, Inc., Thomson Marion Div., Marion, IN: April 10, 2005.

TA-W-57,287; Stora Enso North America, Wisconsin Rapids Mill, Wisconsin Rapids, WI: June 17, 2005

The following certifications have been issued. The requirements of (a) (2) (B) (shift in production) of Section 222 have been met.

TA-W-57,281; Continental JC., Inc., New York, NY: June 1, 2004.

TA-W-57,219; Riverside Paper Corp., Kerwin Paper Mill, Appleton, WI: May 16, 2004.

TA-W-57,332; FI-Fabry Industries, Green Bay, WI: November 13, 2004.

TA-W-57,301; Contec, LLC, a subsidiary of Contec Holdings, LLC, including leased workers of Available Personnel and Kelly Services, Seattle, WA: June 1, 2004.

TA-W-57,246; TRW Automotive U.S. LLC, Engine Components North American Technical Center, Engine Lab Department, Warrensville, Heights, OH: May 24, 2004.

TA-W-57,226; Danly IEM, Ionia, MI: May 2, 2004.

TA-W-57,134; Zomax, Inc., including on-site leased workers of West Valley, Staffing Group, Fremont, CA: April 27, 2004.

TA-W-57,122; Tower Automotive, Inc., Croydon, IN: May 4, 2004.

TA-W-57,280; Elringklinger Sealing Systems (USA), Inc., a subsidiary of Elringklinger AG, including on-site leased workers from Personnel Unlimited, Livonia, MI: May 27, 2004.

TA-W-57,235; 3M Company, Automotive Div., Stillwater, MN: May 20, 2004.

TA-W-57,188; Neat Feet Hosiery, Inc., Stoneville, NC: May 12, 2004.

TA-W-57,233; Culp, Inc., Corporate Headquarters, High Point, NC: May 19, 2004.

TA-W-57,229; Renaissance Mark, Bowling Green, KY: May 16, 2004.

TA-W-57,178; C-Tech Industries, d/b/a The Hotsy Corporation, Humboldt, IA: May 13, 2004.

TA-W-57,374; United Plastics Group, Inc., El Paso Division, including on-site leased workers of Integrated Human Capital, El Paso, TX: June 14, 2004.

TA-W-57,142; Culp, Inc., including the following Divisions, Culp Upholstery Prints, Culp Central Distribution Center and Culp Sample Department, Burlington, NC: May 5, 2004.

TA-W-57,140; Culp, Inc., Culp Design Center, Burlington, NC: May 9, 2004.

The following certifications have been issued. The requirement of upstream supplier to a trade certified primary firm has been met.

None

Negative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

The Department as determined that criterion (2) of Section 246 has not been met. Workers at the firm possess skills that are easily transferable.

TA-W-57,219; Riverside Paper Corporation, Kerwin Paper Mill, Appleton, WI

TA-W-57,281; Continental JC., Inc., New York, NY

TA-W-52,419; Nestaway, a div. of Axia, Inc., Cleveland, OH

TA-W-53,395; Du-Co Ceramics Co., Saxonburg, PA

The Department as determined that criterion (1) of Section 246 has not been met. Workers at the firm are 50 years of age or older.

TA-W-57,124; Jeanerette Shipping Company, Inc., a div. of Jeanerette Sugar Company, Inc., Jeanerette, LA

Since the workers are denied eligibility to apply for TAA, the workers cannot be certified eligible for ATAA.

TA-W-57,077; Radicispandex Corp., Fall River, MA

TA-W-57,141; Stanbury Uniforms, Inc., Waxahachie, TX

TA-W-57,253; Intermark Fabric Corp., including leased workers of Placement Pros and Staffing Consultants, Plainfield, CT

TA-W-57,253; Vision Knits, Inc., Albemarle, NC

TA-W-57,025; AGC Automotive, TN, Inc., Mt. Pleasant, TN

TA-W-57,108; Parker Hannifin Corp., Minneapolis, MN

TA-W-57,174; Microsemi Corp., Colorado Div., Broomfield, CO

TA-W-57,189; Elliott Company, Jeannette, PA

TA-W-57,138; New Hope Weavers, Ltd, Lansdale, PA

TA-W-57,237; Tingstol Company, on-site workers employed at Honeywell, Inc., Golden Valley, MN

TA-W-57,196; K & T Jewelry and Accessories, Inc., Providence, RI

TA-W-57,149; MCI, Service Deliver Div., a subsidiary of MCI, Inc., Weldon Springs, MO

TA-W-57,157; Ted Thorsen, LLC, Wilkes-Barre, PA

TA-W-57,128; Northwest Airlines, Inc., Technical Operations—MSP, Bloomington, MN

TA-W-57,118; Lucerne Textiles, Inc., New York, NY

TA-W-57,130; Barrow Industries, Inc., including on-site workers employed at Canton Samples, Inc., Norwood, MA

TA-W-57,245; Delta Air Lines, Technical Operations, Atlanta, GA

TA-W-57,300; Aegis Communications Group, Irving, TX

TA-W-57,287A; Stora Enso North America, Biron Mill, Wisconsin Rapids, WI

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-54,712; Gemeinhardt Company, Elkhart, IN: April 12, 2003 through May 25, 2006.

TA-W-52,243; Nestle Purina Pet Food, St. Joseph, MO: July 1, 2002 through August 22, 2005.

TA-W-52,239; Titan Tire Corp., Des Moines, IA: June 24, 2002 through October 2, 2005.

TA-W-53,026; Metaldyne Driveline/Hydraulics Group, Bedford Heights, OH: September 17, 2002 through November 14, 2005.

TA-W-57,140; Culp, Inc., Culp Design Center, Burlington, NC: May 9, 2004.

TA-W-57,155; Thomson, Inc., Thomson Marion Div., Marion, IN: April 10, 2005.

TA-W-57,177; Broyhill Furniture Industries, Inc., Occasional #1 Plant, Lenoir, NC, A; Broyhill Harper Furniture, Lenoir, NC, B; Lenoir Chair #1 Plant, Lenoir, NC, C; Broyhill Marion Plant, Marion, NC, D; Broyhill Particleboard Plant, Lenoir, NC, E; Central Lumber Yard, Lenoir, NC, F; Broyhill Central Warehouse, Lenoir, NC, G; Broyhill Security, Lenoir, NC: April 29, 2004.

TA-W-57,178; C-Tech Industries, d/b/a The Hotsy Corp., Humboldt, IA: May 13, 2004.

TA-W-57,229; Renaissance Mark, Bowling Green, KY: May 16, 2004.

TA-W-57,233; Culp, Inc., Corporate Headquarters, High Point, NC: May 19, 2004.

TA-W-56,630; Sherwood Harsco Gasserv, a subsidiary of Harsco Corp., Washington, PA: February 22, 2004.

TA-W-56,839; Exide Technologies, Shreveport, LA: March 23, 2004.

TA-W-57,008; Caldwell VSR, Inc., Weslaco, TX: April 19, 2004.

TA-W-57,041; Louisiana-Pacific Corp., Hayden Lake, ID: April 19, 2004.

TA-W-57,049; Acuity Lighting Group, a subsidiary of Acuity Brands, Inc., Conyers, GA: April 21, 2004.

TA-W-57,096; GE Infrastructure, Sensing Division, Edison, NJ: May 2, 2004.

TA-W-57,112; Broyhill Furniture Industries, Inc., Broyhill Corporate Office, Lenoir, NC: April 18, 2004.

TA-W-57,127; J.T. Shannon Lumber Company, including on-site leased workers of All Seasons Temporaries, Pennsylvania Div., Tidioute, PA: April 22, 2004.

TA-W-57,159; Electro-Mel Industries, Inc., Hazelhurst, WI: May 4, 2004.

TA-W-57,188; Neat Feet Hosiery, Inc., Stoneville, NC: May 12, 2004.

TA-W-57,235; 3M Company, Automotive Div., Stillwater, MN: May 20, 2004.

TA-W-57,274; Laidlaw Corporation, Monticello, WI: May 27, 2004.

TA-W-57,280; Elringklinger Sealing Systems (USA), Inc., a subsidiary of Elringklinger AG, including on-site leased workers from Personnel Unlimited, Livonia, MI: May 27, 2004.

TA-W-57,087; Strandflex, Div. of Maryland Specialty Wire, Oriskany, NY: April 22, 2004.

TA-W-57,116; Rockville Fabrics Corporation, Active Quilting Div., Plains, PA: May 2, 2004.

TA-W-57,122; Tower Automotive, Inc., Croydon, IN: May 4, 2004

TA-W-57,126; Tekmax, Inc., a subsidiary of Mitek Industries, Inc., Tangent, OR: April 28, 2004.

TA-W-57,134; Zomax, Inc., including on-site leased workers of West Valley, Staffing Group, Fremont, CA: April 27, 2004.

TA-W-57,167; DB Roberts Company, Workers at Sanmina-SCI, Westbrook, ME: May 13, 2004.

TA-W-57,195; True Manufacturing Company, a div. of The True Value Company, Paint Brush Manufacturing Div., Cary, IL: May 9, 2004.

TA-W-57,226; Danly IEM, Ionia, MI: May 2, 2004.

TA-W-57,246; TRW Automotive U.S. LLC, Engine Components North American Technical Center, Engine Lab Department, Warrensville Heights, OH: May 24, 2004.

TA-W-57,249; Lamplight Farms, Inc., including on-site leased workers of PA Staffing, Inc., QPS Staffing Services, Inc., Menomonee Falls, WI: May 24, 2004.

TA-W-57,287; Stora Enso North America, Wisconsin Rapids Mill, Wisconsin Rapids, WI: June 17, 2005.

TA-W-57,301; Contec, LLC, a subsidiary of Contec Holdings, LLC, including leased workers of Available Personnel and Kelly Services, Seattle, WA: June 1, 2004.

TA-W-57,332; FI-Fabry Industries, Green Bay, WI: November 13, 2004.

TA-W-55,319; Danaher Linear Motion Systems, a div. of The Danaher Motion Group, formerly known as Thomson Bay Co., Bay City, MI: July 19, 2003 through October 8, 2006.

TA-W-53,587; Sensient Imaging Technologies, Inc., (formerly Formulabs), Industrial Ink Div., Piqua, OH: October 28, 2002 through December 18, 2005.

TA-W-54,804; Southern Glove Manufacturing Co., Inc., Cumberland Glove Div., Duffield, VA: April 19, 2003 through May 28, 2006.

TA-W-54,257; MCS Industries, Inc., including leased workers of Adecco Personnel, Allied Personnel Services, and Job Connection, Easton, PA: February 10, 2003 through March 2, 2006.

TA-W-54,195; Tyco Valves & Controls N.A., Foundry, Prophetstown, IL: February 4, 2003 through February 19, 2006.

TA-W-52,173; Carr Lowrey Glass Co., Baltimore, MD: June 27, 2002 through August 13, 2005.

TA-W-53,087; Manchester Tool Co., Akron, OH: September 18, 2002 through November 12, 2005.

TA-W-53,481; Springs Industries, Inc., including leased workers of Phillips Staffing, including contract workers of Johnson Controls, Inc., Springfield Plant, Laurel Hill, NC: October 31, 2002 through November 24, 2005.

TA-W-53,677; Smead Manufacturing Co., Logan, OH: November 18, 2002 through December 22, 2005.

I hereby certify that the aforementioned determinations were issued during the months of June 2005. Copies of these determinations are available for inspection in Room C-5311, U.S. Department of Labor, 200 Constitution Avenue, NW., Washington, DC 20210 during normal business hours or will be mailed to persons who write to the above address.

Dated: June 29, 2005.
Timothy Sullivan,
Director, Division of Trade Adjustment Assistance.

[FR Doc. E5-3748 Filed 7-13-05; 8:45 am]

BILLING CODE 4510-30-P